DEPARTMENT OF AGRICULTURE

Food Safety and Inspection Service

9 CFR part 424

[Docket No. 99-028N]

Food Additives for Use in Meat and Poultry Products: Sodium Diacetate, Sodium Acetate, Sodium Lactate and Potassium Lactate

AGENCY: Food Safety and Inspection Service, USDA.

ACTION: Affirmation of effective date for direct final rule.

SUMMARY: On January 20, 2000, the Food Safety and Inspection Service (FSIS) published a direct final rule “Food Additives for Use in Meat and Poultry Products: Sodium Diacetate, Sodium Acetate, Sodium Lactate and Potassium Lactate” in the Federal Register. This direct final rule notified the public of FSIS' intention to amend the Federal meat and poultry products inspection regulations to allow the use of these additives in meat and poultry products.

EFFECTIVE DATE: March 20, 2000.

FOR FURTHER INFORMATION CONTACT: Robert Post, Director, Labeling and Additives Policy Division, Office of Policy, Program Development and Evaluation, Food Safety and Inspection Service, U.S. Department of Agriculture, Washington, DC 20250-3700; (202) 205-0279.

SUPPLEMENTARY INFORMATION:

Background

FSIS published a direct final rule, “Food Additives for Use in Meat and Poultry Products: Sodium Diacetate, Sodium Acetate, Sodium Lactate and Potassium Lactate” (65 FR 3121, 1/20/00). This direct final rule amended the Federal meat and poultry products inspection regulations by increasing the permissible levels of sodium acetate as a flavor enhancer in meat and poultry products and of sodium diacetate as a flavor enhancer and as an inhibitor of the growth of pathogens. This direct final rule also permitted the use of sodium lactate and potassium lactate in meat and poultry products, except for infant formulas and infant food, for purposes of inhibiting the growth of certain pathogens. This direct final rule was in response to petitions received by Armour Swift-Ekrich and Purac America, Inc.

FSIS provided for a 30-day comment period ending on February 22, 2000. FSIS received no comments in response to the direct final rule. Therefore, the amendments to the regulations will be effective on March 20, 2000.

Done at Washington, DC, on: March 27, 2000.
Thomas J. Billy,
Administrator.

[FR Doc. 00-8007 Filed 3-30-00; 8:45 am]

BILLING CODE 3410-DM-P